DEPARTMENT OF ENERGY

Federal Energy Regulatory Commission

[Docket No. ER00-3589-001, et al.]

Public Service Electric and Gas Company, et al.; Electric Rate and Corporate Regulation Filings

November 2, 2000.

Take notice that the following filings have been made with the Commission:

1. Public Service Electric and Gas Company

[Docket No. ER00-3589-001]

Take notice that on October 27, 2000, Public Service Electric and Gas Company (PSE&G), tendered for filing pursuant to Order No. 614, a revised Firm Capacity Agreement with Orange and Rockland Utilities, Inc., originally filed with the Commission on September 1, 2000 in the above-referenced docket.

Comment date: November 17, 2000, in accordance with Standard Paragraph E at the end of this notice.

2. International Transmission Company

[Docket No. ER00-3295-003]

Take notice that on October 30, 2000, International Transmission Company tendered for filing its compliance filing in the above-captioned docket, in accordance with the Federal Energy Regulatory Commission's order issued September 28, 2000. See 92 FERC ¶ 61,276.

Comment date: November 20, 2000, in accordance with Standard Paragraph E at the end of this notice.

3. Florida Power & Light Company

[Docket No. ER97-3359-003]

Take notice that on October 30, 2000, Florida Power & Light Company tendered for filing an updated market power analysis in compliance with the Commission's order in Florida Power & Light Co., 81 FERC ¶ 61,107 (1997).

Comment date: November 20, 2000, in accordance with Standard Paragraph E at the end of this notice.

4. American Electric Power Service Corporation

[Docket No. ER01-253-000]

Take notice that on October 30, 2000, the American Electric Power Service Corporation (AEPSC), tendered for filing executed Firm and Non-Firm Point-to-Point Transmission Service Agreements for Illinois Electric Marketing, LLC, Texas Electric Marketing, LLC and Wolverine Power Supply Cooperative. All of these agreements are pursuant to the AEP Companies' Open Access Transmission Service Tariff (OATT) that has been designated as the Operating Companies of the American Electric Power System FERC Electric Tariff Revised Volume No. 6, effective June 15, 2000.

AEPSC requests waiver of notice to permit the Service Agreements to be made effective for service billed on and after October 1, 2000.

A copy of the filing was served upon the Parties and the state utility regulatory commissions of Arkansas, Indiana, Kentucky, Louisiana, Michigan, Ohio, Oklahoma, Tennessee, Texas, Virginia and West Virginia.

Comment date: November 20, 2000, in accordance with Standard Paragraph E at the end of this notice.

5. Northern Indiana Public Service Company

[Docket No. ER01-254-000]

Take notice that on October 30, 2000, Northern Indiana Public Service Company (Northern Indiana), tendered for filing a Service Agreement pursuant to its Wholesale Market-Based Rate Tariff with NewEnergy Midwest, LLC (NewEnergy).

Northern Indiana has requested an effective date of October 1, 2000.

Copies of this filing have been sent to NewEnergy, the Indiana Utility Regulatory Commission, and the Indiana Office of Utility Consumer Counselor.

Comment date: November 20, 2000, in accordance with Standard Paragraph E at the end of this notice.

6. Duquesne Light Company

[Docket No. ER01-255-000]

Take notice that on October 30, 2000, Duquesne Light Company (DLC), tendered for filing a Service Agreement for Retail Network Integration Transmission Service and a Network Operating Agreement for Retail Network Integration Transmission Service dated October 27, 2000 Dominion Energy Direct Sales, Inc. under DLC's Open Access Transmission Tariff (Tariff). The Service Agreement and Network Operating Agreement adds Dominion Energy Direct Sales, Inc. as a customer under the Tariff.

DLC requests an effective date of October 27, 2000 for the Service Agreement.

Comment date: November 20, 2000, in accordance with Standard Paragraph E at the end of this notice.

7. American Electric Power Service Corporation

[Docket No. ER01-256-000]

Take notice that on October 30, 2000, American Electric Power Service Corporation, tendered for filing, on behalf of the operating companies of the American Electric Power System (AEP), proposed amendments to the Open Access Transmission Tariff accepted for filing by the Commission in Docket No. ER98-2786-000.

AEP requests waiver of notice to permit an effective date of January 1, 2001, for such amendments.

Copies of the filing have been served upon AEP's transmission customers and the state utility regulatory commissions of Arkansas, Indiana, Kentucky, Louisiana, Michigan, Ohio, Oklahoma, Tennessee, Texas, Virginia and West Virginia.

Comment date: November 20, 2000, in accordance with Standard Paragraph E at the end of this notice.

8. American Electric Power Service Corporation

[Docket No. ER01-257-000]

Take notice that on October 30, 2000, the American Electric Power Service Corporation (AEPSC), tendered for filing a Transaction Confirmation Agreement (Confirmation) for a firm power sale between AEPSC and City of Vernon, California under Western System Power Pool Agreement effective July 1, 2000 under Rate Schedule FERC No.3 in Docket ER99-541-000 as amended.

AEPSC respectfully requests waiver of notice to permit the Confirmation to be made effective as of October 1, 2000.

A copy of the filing was served upon the Parties and the State Utility Regulatory Commissions of Arkansas, Indiana, Kentucky, Louisiana, Michigan, Ohio, Oklahoma, Tennessee, Texas, Virginia and West Virginia.

Comment date: November 20, 2000, in accordance with Standard Paragraph E at the end of this notice.

9. Central Maine Power Company

[Docket No. ER01-258-000]

Take notice that on October 30, 2000, Central Maine Power Company (CMP), tendered for filing a service agreement for Short-Term Firm Local Point-to-Point Transmission Service entered into with Greenville Steam Company. Service will be provided pursuant to CMP's Open Access Transmission Tariff, designated rate schedule CMP-FERC Electric Tariff, Original Volume No. 3, as supplemented.

Comment date: November 20, 2000, in accordance with Standard Paragraph E at the end of this notice.

10. PPL EnergyPlus, LLC

[Docket No. ER01-260-000]

Take notice that on October 30, 2000, PPL EnergyPlus, LLC tendered for filing a notice of cancellation of PPL EnergyPlus, LLC Rate Schedule FERC No. 7, between PPL EnergyPlus, LLC and Jersey Central Power & Light Company.

PPL EnergyPlus requests an effective date of this cancellation of November 29, 2000.

PPL EnergyPlus, LLC has served a copy of the notice of cancellation on Jersey Central Power & Light Company.

Comment date: November 20, 2000, in accordance with Standard Paragraph E at the end of this notice.

11. Public Service Electric and Gas Company

[Docket No. ER01-261-000]

Take notice that on October 30, 2000, Public Service Electric and Gas Company (PSE&G), tendered for filing the following Agreement between PSE&G, JEDI Linden NB, L.L.C. (JEDI Linden) and Tosco Refining, L.P. (Tosco): (a) an Interconnection Agreement, designated as Service Agreement 208 under PJM Interconnection L.L.C.'s FERC Electric Tariff Third Revised Volume No. 1, to be effective on the initial operation date as PSE&G's Rate Schedule No. 167.

Copies of this filing were served on JEDI Linden and Tosco.

Comment date: November 20, 2000, in accordance with Standard Paragraph E at the end of this notice.

12. Florida Power Corporation

[Docket No. ER01-262-000]

Take notice that on October 30, 2000, Florida Power Corporation (Florida Power), tendered for filing two executed Interconnection and Operating Agreements (Interconnection Agreements) with Shady Hills Power Company, LLC (Shady Hills) and with Reliant Energy Osceola, LLC (Reliant-Osceola). Both Interconnection Agreements are being filed as service agreements under Florida Power's open access transmission tariff (OATT), FERC Electric Tariff, First Revised Volume No. 6. The Interconnection Agreements set forth the terms and conditions governing the interconnection between two, yet-to-be constructed generating facilities and the Company's transmission system, including the Company's construction of required interconnection facilities.

Florida Power requests an October 1, 2000 effective date for the Shady Hills Interconnection Agreement, and a November 1, 2000 effective date for the Reliant-Osceola Interconnection Agreement.

Copies of the filing were served upon Shady Hills, Reliant-Osceola, and the Florida Public Service Commission.

Comment date: November 20, 2000, in accordance with Standard Paragraph E at the end of this notice.

13. Cinergy Services, Inc.

[Docket No. ER01-264-000]

Take notice that on October 30, 2000, Cinergy Services, Inc. (Cinergy), tendered for filing a Firm Point-to-Point Service Agreement under Cinergy's Open Access Transmission Service Tariff (OATT) entered into between Cinergy and Unicom Energy, Inc. (Unicom).

Cinergy and Unicom are requesting an effective date of September 25, 2000.

Comment date: November 20, 2000, in accordance with Standard Paragraph E at the end of this notice.

14. Cinergy Services, Inc.

[Docket No. ER01-265-000]

Take notice that on October 26, 2000, Cinergy Services, Inc. (Cinergy), tendered for filing a Non-Firm Point-to-Point Service Agreement under Cinergy's Open Access Transmission Service Tariff (OATT) entered into between Cinergy and Unicom Energy, Inc. (Unicom).

Cinergy and Unicom are requesting an effective date of September 25, 2000.

Comment date: November 20, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-28920 Filed 11-9-00; 8:45 am]

BILLING CODE 6717-01-P